DEPARTMENT OF HEALTH AND HUMAN SERVICES

Administration for Children and Families

[CFDA Numbers: 93.592, 93.224]

Announcing the Award of a Single-Source Program Expansion Supplement Grant to Futures Without Violence in San Francisco, CA

AGENCY: Family and Youth Services Bureau, ACYF, ACF, HHS.

ACTION: Notice of the award of a single-source program expansion supplement grant under the Family Violence Prevention and Services Act (FVPSA) Technical Assistance Project to Futures Without Violence to support training and technical assistance activities.

SUMMARY: The Administration for Children and Families (ACF), Administration on Children, Youth and Families (ACYF), Family and Youth Services Bureau (FYSB), Division of Family Violence Prevention and Services (DFVPS), announces the award of $370,000 as a single-source program expansion supplement to Futures Without Violence in San Francisco, CA. The award is a collaboration between ACF/ACYF/FYSB/FVPSA, contributing $120,000, and HHS/Health Resource Services Administration (HRSA), Bureau of Primary Health Care (BPHC), contributing $250,000.

DATES: The period of support is September 29, 2015, through September 30, 2016.

FOR FURTHER INFORMATION CONTACT: Shawndell Dawson, Senior Program Specialist, Family Violence Prevention and Services Program, 1250 Maryland Avenue SW., Suite 8215, Washington, DC 20024. Telephone: 202-205-1476; email: Shawndell.Dawson@acf.hhs.gov.

SUPPLEMENTARY INFORMATION: The grantee is funded under FYSB's FVPSA Program as a technical assistance provider serving as the FVPSA-funded National Health Resource Center on Domestic Violence.

In accordance with an intra-agency agreement, HRSA/BPHC will provide obligation authority for $250,000 to the ACF/ACYF/FYSB/DFVPS to provide national-level health care and domestic violence training and technical assistance. In accordance with this intra-agency agreement, ACF/ACYF/FYSB/DFVPS has supplemented an existing training and technical assistance cooperative agreement with Futures Without Violence through September 30, 2016. The HRSA/BPHC and ACF/ACYF/FYSB/DFVPS staffs will meet regularly and facilitate ongoing communication to coordinate the delivery of national training and technical assistance to primary health clinics.

Supplemental award funds will support the grantee in providing training and technical assistance to domestic violence service and health care providers.

This award will expand the scope of Futures Without Violence's technical assistance activities to include additional activities concerned with assessing and responding to domestic violence in health clinics and supporting children/youth and abused parents experiencing domestic violence. This additional technical assistance and training may involve such activities as: (1) Providing technical assistance for nine health centers to create health system changes that support providers and create sustainable responses to victims of intimate partner violence; (2) providing training on comprehensive, culturally competent responses to domestic violence within a Patient Centered Medical Home model; (3) creating new technical assistance resources that promote protective factors and resilience when working with children, youth, and teens impacted by domestic violence, which includes fostering stronger relationships with their non-abusive parents or caregivers; (4) providing training to domestic violence programs that improves consistent implementation of evidence-informed, trauma-informed, and culturally relevant programming for children, youth, and abused parents; (4) maintaining an online resource for domestic violence programs: www.PromisingFuturesWithoutViolence.org.

The solicited application from Futures Without Violence underwent objective review by a federal panel using criteria that assessed the application's project approach, its organizational capacity, and budgeting of projected project costs.

Statutory Authority: The statutory authority for this award is Section 310 of FVPSA, as amended by Section 201 of the CAPTA Reauthorization Act of 2010, Pub. L. 111-320. The HRSA authority for its funding is through Section 330 of the Public Health Service Act (42 U.S.C. 254b).

Christopher Beach,
Senior Grants Policy Specialist, Division of Grants Policy, Office of Administration.

[FR Doc. 2016-01328 Filed 1-22-16; 8:45 am]

BILLING CODE 4184-32-P